DEPARTMENT OF THE INTERIOR

National Park Service

National Register of Historic Places; Notification of Pending Nominations

Nominations for the following properties being considered for listing in the National Register were received by the National Park Service before October, 16, 2004. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by December 8, 2004.

Carol D. Shull,
Keeper of the National Register of Historic Places.

ARIZONA

Maricopa County

Phoenix Union High School Historic District (Boundary Decrease), 512 E. Van Buren, Phoenix, 04001248

Pima County

Agua Caliente Ranch Rural Historic Landscape, (Cattle Ranching in Arizona MPS) 12325 E. Roger Rd., Tucson, 04001246

Empirita Cattle Ranch Rural Historic District, (Cattle Ranching in Arizona MPS) Between Vail & Benson S. of I10, Benson, 04001247

KENTUCKY

Boone County

South Main Street Historic District, (Boone County, Kentucky MPS) Roughly along Main St. between Edwards and Oreco Sts., Walton, 04001249

Christian County

Whitepath and Fly Smith Gravesite, (Cherokee Trail of Tears MPS) P.O. Box 350, Hopkinsville, 04001250

Daviess County

Owensboro Historic Downtown Commercial District, (Owensboro MRA) Roughly between Frederica, Clay, 2nd & 4th Sts., Owensboro, 04001251

Jefferson County

St. Cecilia School Building, 2530 Slevin St., Louisville, 04001252

Livingston County

Mantle Rock, (Cherokee Trail of Tears MPS) KY133, Smithland, 04001253

Todd County

Gray's Inn, (Cherokee Trail of Tears MPS) 88 Graysville Rd., Guthrie, 04001254

Whitley County

Lane Theater, 510 Main St., Williamsburg, 04001255

MASSACHUSETTS

Middlesex County

South Burying Ground, (Newton MRA) Winchester St., Newton, 04001256

Plymouth County

Pillsbury Summer House, 45 Old Cove Rd., Duxbury, 04001257

Worcester County

Warren First Congregational—Federated Church, 25 Winthrop Ter., Warren, 04001258

NEW JERSEY

Bergen County

Bogert, John Jacob, House, 163 Bogert's Mill Rd., Harrington Park, 04001259

Burlington County

Burlington's Lost Burial Ground, Address Restricted, Burlington, 04001260

Cape May County

Ludlam, Thomas Jr., House, 707 NJ47, Dennis Township, 04001261

OREGON

Deschutes County

Downing Building, 1033-1035 NW Bond St., Bend, 04001262

Multnomah County

Auto Freight Transport Building of Oregon and Washington, (Eastside MRA) 1001 SE Water Ave., Portland, 04001263

Bruening, Henry C. and Wilhemina, House, 5919 N. Williams, Portland, 04001264

VIRGINIA

Accomack County

Cokesbury Church, 13 Market St., Onancock, 04001265

Fauquier County

Atoka Historic District, 1461, 1466, 1468, 1481 Atoka Rd. & 7258, 7260 Rectors Ln., Atoka, 04001266

Rectortown Historic District, Roughly bounded by Maidstone, Rectortown, Atoka, Lost Corner and Crenshae Rds., Rectortown, 04001267

Lexington Independent City

Lexington and Covington Turnpike Toll House, 453 Lime Kiln Rd., Lexington, 04001268

Loudoun County

Janney House, 15 W. Colonial Hwy., Hamilton, 04001269

Northampton County

Chandler, John W., House, 3342 Main St., Exmore, 04001270

Patrick County

Goblintown Mill, 888 Iron Bridge Rd., Stuart, 04001271

Pulaski County

New Dublin Presbyterian Church, New Dublin Church Rd., Dublin, 04001272

Rappahannock County

Laurel Mills Historic District, Roughly bounded by Laurel Mills Rd., Thornton R. & Laurel Mills Farm, Laurel Mills, 04001273

Sunnyside, 186 Sunnyside Orchard Ln., Washington, 04001274

Roanoke Independent City

Boxley—Sprinkle House, 2611 Crystal Spring Ave., Roanoke, 04001275

Henry Street Historic District, 100 blk. of Henry St. NW, Roanoke, 04001276

Suffolk Independent City

West End Historic District (Boundary Increase), Roughly bounded by Wellons, Washington & Smith Sts., Suffolk, 04001277

WISCONSIN

Ozaukee County

Green Bay Road Historic District, 149—195 Green Bay Rd., Thiensville, 04001278

Main Street Historic District, 101 N. Main St., 105—130 S. Main St., 101 Green Bay Rd. & 107 W. Buntrock Ave., Thiensville, 04001279

[FR Doc. 04-25898 Filed 11-22-04; 8:45 am]

BILLING CODE 4312-51-P